DEPARTMENT OF ENERGY

Hydrogen and Fuel Cell Technical Advisory Committee (HTAC)

AGENCY: Office of Energy Efficiency and Renewable Energy, Department of Energy.

ACTION: Notice of open meeting.

SUMMARY: This notice announces an open meeting of the Hydrogen and Fuel Cell Technical Advisory Committee (HTAC). The Federal Advisory Committee Act (Pub. L. No. 92-463, 86 Stat. 770) requires notice of the meeting be announced in the Federal Register.

DATES: Tuesday, October 29, 2013, 8:30 a.m.-5:00 p.m. Wednesday, October 30, 2013, 8:00 a.m.-11:15 a.m.

ADDRESSES: National Renewable Energy Laboratory (NREL); Research Support Facility; San Juan Conference Rooms X344A, X344B, X344C; 15013 Denver West Parkway; Golden, Colorado 80401-3305.

FOR FURTHER INFORMATION CONTACT: Email: HTAC@nrel.gov or at the mailing address: Joseph Stanford, Designated Federal Officer, U.S. Department of Energy, Office of Energy Efficiency and Renewable Energy, 1000 Independence Avenue, Washington, DC 20585.

SUPPLEMENTARY INFORMATION:

Purpose of the Committee: The Hydrogen and Fuel Cell Technical Advisory Committee (HTAC) was established under section 807 of the Energy Policy Act of 2005 (EPACT), Pub. L. No. 109-58; 119 Stat. 849.

Purpose of the Meeting: To provide advice, information, and recommendations to the Secretary of Energy on the program authorized by Title VIII of EPACT.

Tentative Agenda: (updates will be posted on the Web at: http://hydrogen.energy.gov/advisory_htac.html).

• HTAC Business (including public comment period)

• DOE Leadership Updates

• Program and Budget Updates

• Overview of Activities at the National Renewable Energy Laboratory, including hydrogen and fuel cell related activities

• Colorado Government Speaker

• Work on Grid Integration by DOE's Office of Energy Efficiency and Renewable Energy

• Overview of the H2USA Partnership

• HTAC Subcommittee Updates

• Hydrogen Production (including industry perspectives, techno-economic analysis, and longer-term production technologies)

• Open Discussion Period

Public Participation: The meeting is open to the public. Individuals who would like to attend and/or to make oral statements during the public comment period must register no later than 5:00 p.m. on Wednesday, October 23, 2013, by email at HTAC@nrel.gov. Foreign nationals must register no later than 5:00 p.m. on Monday, October 14, 2013. Foreign nationals will be required to fill out a questionnaire in order to have access to the meeting site and will be notified within 5-10 business days regarding their access to the meeting. An early confirmation of attendance will help to facilitate access to the building more quickly. Entry to the building will be restricted to those who have confirmed their attendance in advance. Please provide your name, organization, citizenship, and contact information. Anyone attending the meeting will be required to present government-issued identification. Those wishing to make a public comment are required to register. The public comment period will take place between 8:30 a.m. and 9:00 a.m. on October 29, 2013. Time allotted per speaker will depend on the number who wish to speak but will not exceed five minutes. Those not able to attend the meeting or have insufficient time to address the committee are invited to send a written statement to HTAC@nrel.gov.

Minutes: The minutes of the meeting will be available for public review at http://hydrogen.energy.gov/advisory_htac.html.

Issued in Washington, DC, on September 26, 2013.
LaTanya R. Butler,
Deputy Committee Management Officer.

[FR Doc. 2013-24089 Filed 10-1-13; 8:45 am]

BILLING CODE 6450-01-P